NATIONAL CREDIT UNION ADMINISTRATION

12 CFR Parts 701 and 741

RIN 3133-AEOO

Loan Participations; Purchase, Sale and Pledge of Eligible Obligations; Purchase of Assets and Assumption of Liabilities; Extension of Effective Date

AGENCY: National Credit Union Administration (NCUA).

ACTION: Final rule; notice of extension of effective date.

SUMMARY: On June 20, 2013, the NCUA Board (Board) approved, with a 30-day effective date, a final rule titled Loan Participations; Purchase, Sale and Pledge of Eligible Obligations; Purchase of Assets and Assumption of Liabilities, effective July 25, 2013. The Board extends the effective date for the final rule to September 23, 2013, to provide federally insured credit unions with additional time to prepare to comply with the final rule.

DATES: The effective date of the final rule published June 25, 2013 (78 FR 37946) is extended from July 25, 2013, to September 23, 2013.

FOR FURTHER INFORMATION CONTACT: Pamela Yu, Staff Attorney, Office of General Counsel, National Credit Union Administration, 1775 Duke Street, Alexandria, Virginia 22314-3428, or telephone (703) 518-6540; or Matthew J. Biliouris, Director of Supervision, Office of Examination and Insurance, National Credit Union Administration, 1775 Duke Street, Alexandria, Virginia 22314-3428, or telephone (703) 518-6360.

SUPPLEMENTARY INFORMATION: The above-referenced final rule regarding loan participations was published at 78 FR 37946 (June 25, 2013) with an effective date of July 25, 2013. The Board extends the effective date to September 23, 2013, to provide federally insured credit unions with additional time to prepare to comply with the final rule.

By the National Credit Union Administration Board, on July 2, 2013.
Mary F. Rupp,
Secretary of the Board.

[FR Doc. 2013-16399 Filed 7-8-13; 8:45 am]

BILLING CODE 7535-01-P